DEPARTMENT OF COMMERCE

International Trade Administration

[A-570-867]

Notice of Postponement of Final Determination of Antidumping Duty Investigation: Automotive Replacement Glass Windshields From the People's Republic of China

AGENCY: Import Administration, International Trade Administration, Department of Commerce.

ACTION: Notice of postponement of final determination of antidumping duty investigation.

EFFECTIVE DATE: October 4, 2001.

FOR FURTHER INFORMATION CONTACT: Brandon Farlander or Stephen Bailey, Office IX, DAS Group III, Import Administration, International Trade Administration, U.S. Department of Commerce, 14th Street and Constitution Avenue NW., Washington, DC 20230; telephone (202) 482-0182 and (202) 482-1102, respectively.

The Applicable Statute and Regulations

Unless otherwise indicated, all citations to the statute are references to the provisions effective January 1, 1995, the effective date of the amendments made to the Tariff Act of 1930 (the Act) by the Uruguay Round Agreements Act. In addition, unless otherwise indicated, all citations to Department of Commerce (the Department) regulations refer to the regulations codified at 19 CFR part 351 (2000).

Background

This investigation was initiated on March 20, 2001. See Notice of Initiation of Antidumping Duty Investigation: Certain Automotive Replacement Glass Windshields from the People's Republic of China, 66 FR 16651 (March 27, 2001) (“Notice of Initiation”). The period of investigation (POI) is July 1, 2000 through December 31, 2000. On September 19, 2001, the Department published the notice of preliminary determination. See Notice of Preliminary Determination of Sales at Less Than Fair Value: Certain Automotive Replacement Glass Windshields From the People's Republic of China, 66 FR 48233 (September 19, 2001).

Postponement of Final Determination and Extension of Provisional Measures

Section 735(a)(2) of the Act provides that a final determination may be postponed until not later than 135 days after the date of the publication of the preliminary determination if, in the event of an affirmative determination, a request for such postponement is made by exporters who account for a significant proportion of exports of the subject merchandise, or in the event of a negative preliminary determination, a request for such postponement is made by petitioner. The Department's regulations, at 19 CFR 351.210(e)(2), require that requests by exporters for postponement of a final determination be accompanied by a request for extension of provisional measures from a four-month period to not more than six months.

On September 14, 2001, exporters Shenzhen Benxum Auto-Glass Co., Ltd. (“Benxun”), Xinyi Automotive Glass (Shenzhen) Co., Ltd. (“Xinyi”) and TCG International Inc. (“TCGI”) requested a 60-day extension from the date of the publication of the preliminary determination in the Federal Register for the Department's final determination, pursuant to 19 CFR 351.210(b)(2)(ii). On September 20, 2001, exporter Fuyao Glass Industry Group Co., Ltd. (“FYG”) also requested that the Department postpone its final determination for 60 days, pursuant to 19 CFR 351.210(b)(2)(ii), and agreed to an extension of provisional measures.

In accordance with 19 CFR 351.210(b), because (1) our preliminary determination is affirmative, (2) the exporters above account for a significant proportion of exports of the subject merchandise, and (3) no compelling reasons for denial exist, we are granting the postponement requests and are postponing the final determination until no later than 135 days after the publication of preliminary determination in the Federal Register. We are also extending the provisional measures, from four months to six months, in accordance with 19 CFR 351.210(e)(2). Therefore, the final determination would now be due on February 1, 2002. Suspension of liquidation will be extended accordingly.

This notice is published in accordance with section 735(a)(2) of the Act.

Dated: September 26, 2001.
Faryar Shirzad,
Assistant Secretary for Import Administration.

[FR Doc. 01-24924 Filed 10-3-01; 8:45 am]

BILLING CODE 3510-DS-P